DEPARTMENT OF ENERGY

Federal Energy Regulatory Commission

Combined Notice of Filings #2

Take notice that the Commission received the following electric rate filings:

Docket Numbers: ER12-348-001.

Applicants: Mercuria Energy America, Inc.

Description: Compliance filing per 35: MEAI Electric Tariff to be effective 9/3/2014.

Filed Date: 9/2/14.

Accession Number: 20140902-5115.

Comments Due: 5 p.m. ET 9/23/14.

Docket Numbers: ER14-639-001.

Applicants: California Independent System Operator Corporation.

Description: Compliance filing per 35: 2014-09-02_Order784SecondCompliance to be effective 9/2/2014.

Filed Date: 9/2/14.

Accession Number: 20140902-5112.

Comments Due: 5 p.m. ET 9/23/14.

Docket Numbers: ER14-836-001.

Applicants: Midcontinent Independent System Operator, Inc.

Description: Report Filing: 2014-09-02_SA 2622 Courtenay-OTP E&PJ262-J263_Response to be effective N/A.

Filed Date: 9/2/14.

Accession Number: 20140902-5179.

Comments Due: 5 p.m. ET 9/23/14.

Docket Numbers: ER14-1243-004.

Applicants: Midcontinent Independent System Operator, Inc.

Description: Protest of Integrys Energy Services, Inc.

Filed Date: 9/2/14.

Accession Number: 20140902-5117.

Comments Due: 5 p.m. ET 9/23/14.

Docket Numbers: ER14-2753-000.

Applicants: Southwest Power Pool, Inc.

Description: § 205(d) rate filing per 35.13(a)(2)(iii): 2028R9 Sunflower Electric Power Corporation NITSA NOA to be effective 8/1/2014.

Filed Date: 9/2/14.

Accession Number: 20140902-5111.

Comments Due: 5 p.m. ET 9/23/14.

Docket Numbers: ER14-2754-000.

Applicants: Midcontinent Independent System Operator, Inc.

Description: § 205(d) rate filing per 35.13(a)(2)(iii): 2014-09-02_SA 2289 Ameren-Hoopeston Wind 4th Revised H094 GIA to be effective 9/3/2014.

Filed Date: 9/2/14.

Accession Number: 20140902-5113.

Comments Due: 5 p.m. ET 9/23/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2014.
Nathaniel J. Davis, Sr.,
Deputy Secretary.

[FR Doc. 2014-21543 Filed 9-9-14; 8:45 am]

BILLING CODE 6717-01-P